COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before March 23, 2015.

ADDRESSES: Comments may be submitted directly to the Office of Information and Regulatory Affairs (OIRA) in OMB, within 30 days of the notice's publication, by email at OIRAsubmissions@omb.eop.gov. Please identify the comments by OMB Control No. 3038-0023. Please provide the Commission with a copy of all submitted comments at the address listed below. Please refer to OMB Reference No. 3038-0023, found on http://reginfo.gov. Comments may also be mailed to the Office of Information and Regulatory Affairs, Office of Management and Budget, Attention: Desk Officer for the Commodity Futures Trading Commission, 725 17th Street NW., Washington, DC 20503, and Amanda Olear, Associate Director, Division of Swap Dealer and Intermediary Oversight, Commodity Futures Trading Commission, Three Lafayette Centre, 1155 21st Street NW., Washington, DC 20581.

Comments may also be submitted, regarding the burden estimated or any other aspect of the information collection, including suggestions for reducing the burden, identified by “Commodity Pool Operators and Commodity Trading Advisors: Amendments to Compliance Obligations” (OMB Control No. 3038-0023), by any of the following methods:

• Agency Web site, via its Comments Online process: http://comments.cftc.gov. Follow the instructions for submitting comments through the Web site.

• Mail: Send to Christopher Kirkpatrick, Secretary of the Commission, Commodity Futures Trading Commission, Three Lafayette Centre, 1155 21st Street NW., Washington, DC 20581.

• Hand Delivery/Courier: Same as Mail, above.

• Federal eRulemaking Portal: http://www.regulations.gov. Follow the instructions for submitting comments.

All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in § 145.9 of the Commission's regulations.¹

¹ Commission regulations referred to herein are found at 17 CFR Ch. 1 et seq. (2014).

The Commission reserves the right, but shall have no obligation, to review, pre-screen, filter, redact, refuse or remove any or all of your submission from www.cftc.gov that it may deem to be inappropriate for publication, such as obscene language. All submissions that have been redacted or removed that contain comments on the merits of this matter will be retained in the public comment file and will be considered as required under applicable laws, and may be accessible under the Freedom of Information Act.

FOR FURTHER INFORMATION CONTACT: Amanda Olear, Commodity Futures Trading Commission, Three Lafayette Centre, 1155 21st Street NW., Washington, DC 20581; (202) 418-5283; email: aolear@cftc.gov, and refer to OMB Control No. 3038-0023. This contact can also provide a copy of the ICR.

SUPPLEMENTARY INFORMATION:

Title: “Commodity Pool Operators and Commodity Trading Advisors: Amendments to Compliance Obligations,” OMB Control No. 3038-0023—Extension. This is a request for extension of a currently approved information collection.

Abstract: Pursuant to the Commodity Exchange Act, as amended by the Dodd-Frank Wall Street Reform and Consumer Protection Act (“Dodd-Frank Act”), Pub. L. 111-203, 124 Stat. 1376 (2010), the Commodity Futures Trading Commission promulgated rules and forms relating to registration with the Commission applicable to intermediaries, and employees and principals thereof, operating in the futures, options, swaps, and retail forex markets. There were no new requirements imposed; however, due to amendments to the Commodity Exchange Act made by the Dodd-Frank Act, there was an increase in registrants in certain registration categories. An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on December 16, 2014 (79 FR 241). No comments have been received.

Burden Statement: The respondent burden for this collection is estimated to average 0.09 hours per response.

Respondents/Affected Entities: 77,857.

Estimated Number of Responses: 78,109.

Estimated Total Annual Burden on Respondents: 7,029.8 hours.

Frequency of collection: Periodically.

Authority: 44 U.S.C. 3501 et seq.

Dated: February 13, 2015.
Christopher J. Kirkpatrick,
Secretary of the Commission.

[FR Doc. 2015-03473 Filed 2-18-15; 8:45 am]

BILLING CODE 6351-01-P